DEPARTMENT OF LABOR

Employment and Training Administration

Advancing Registered Apprenticeship into the 21st Century: Collaborating for Success; Solicitation for Grant Applications (SGA) SGA-DFA-PY-08-11; Amendment Number 1

AGENCY: Employment and Training Administration (ETA), U.S. Department of Labor.

ACTION: Notice: Amendments, Extension of period to submit applications, and announcement of Prospective Applicant Conference Webinar.

SUMMARY: The Employment and Training Administration published a document in the Federal Register of January 15, 2009, announcing the availability of funds and solicitation for grant applications for the Advancing Registered Apprenticeship into the 21st Century: Collaborating for Success initiative. This amendment will make changes to the January 15 document by clarifying and correcting this Solicitation.

Key Dates: The deadline for submission of applications under this announcement has been extended to March 31, 2009. A Webinar for prospective applicants will be held for this grant application on March 4, 2009. Access information for the Webinar will be posted on the U.S. Department of Labor's (DOL), Employment and Training Administration (ETA) Web site at: http://www.workforce3one.org.

FOR FURTHER INFORMATION CONTACT: Mamie Williams, Grants Management Specialist, Telephone (202) 693-3341.

Amendment

In the Federal Register of January 15, 2009, in FR Volume 74, No. 10, the solicitation is amended with the following:

1. This amendment is to announce a Prospective Applicant Webinar. On Page 2621, Key Dates, delete the following text: The closing date for receipt of applications under this announcement is 60 days from the date of publication in the Federal Register. Add the following text: The closing date for receipt of applications under this announcement is March 31, 2008. A Webinar for prospective applicants will be held for this grant application on March 4, 2009. Access information for the Webinar will be posted on the U.S. Department of Labor's (DOL), Employment and Training Administration (ETA) Web site at: http://www.workforce3one.org.

2. This amendment is to correct language related to the number of Parts this Solicitation for Grant Applications contains. On Page 2621, under the Supplementary Information section, in the last sentence of the third full paragraph, delete the following text: This announcement consists of seven parts. Add the following text: This announcement consists of eight parts.

3. This amendment is to add additional language to the first of seven components (different than the Parts mentioned above), for which a grant application must address at least four that must be incorporated into a grant application to be considered for an award. On Page 2621, under the Summary information, in the first of the seven components, delete the following text: Continued expansion into fast growing and/or new and emerging industries (including construction). Add the following text: Continued expansion into fast growing and/or new and emerging industries (including construction, and industries related to green technologies and skills).

4. This amendment is to add additional language to the sixth of the seven components, for which a grant application must address at least four, that must be incorporated into a grant application to be considered for an award. On Page 2621, under the Summary information, in the sixth of the seven components, delete the following text: Innovative strategies to serve under-represented populations, particularly youth and women, to meet the talent development needs of regional economies through Registered Apprenticeship. Add the following text: Innovative strategies; including but not limited to pre-apprenticeship activities, to serve under-represented populations, particularly youth and women, to meet the talent development needs of regional economies through Registered Apprenticeship.

5. On Page 2621, in the first sentence of the last full paragraph under Summary information, delete the following text: ETA recognizes that the use of these approaches will offer apprentices greater opportunities to increase their knowledge and attain the skills that emerging and high growth industries demand. Add the following text: ETA recognizes that the use of these approaches will offer apprentices greater opportunities to increase their knowledge and attain the skills that emerging and high-growth industries demand, including construction and industries related to green technologies and skills.

6. On Page 2622, Part I, the Funding Opportunity Description, Background section, first paragraph, sentence five, delete the following text: While this model is successful and preferred in certain industries, increasingly, new and high-growth industries are establishing competency-based and hybrid (competency and time-based) apprenticeship strategies that focus on the mastery of key skills and allow motivated workers to progress at their own pace. Add the following text: While this model is successful and preferred in certain industries, increasingly, new and high-growth industries, including construction and industries related to green technologies and skills, are establishing competency-based and hybrid (competency and time-based) apprenticeship strategies that focus on the mastery of key skills and allow motivated workers to progress at their own pace.

7. On Page 2622, Part I, the Funding Opportunity Description, Background section, in sentence three of the second full paragraph, delete the following text: Many Apprenticeship programs—particularly in high-growth industries such as health care, advanced manufacturing, and transportation—now also offer interim credentials and training certificates based on a competency model that leads to a Certificate of Completion. Add the following text: Many apprenticeship programs—particularly in high-growth industries such as energy, health care, advanced manufacturing, and transportation—are developing and implementing training strategies that offer interim credentials and training certificates based on a competency model that leads to a Certificate of Completion.

Signed at Washington, DC, this 6th day of February 2009.
Chari A. Magruder,
Grant Officer, Employment & Training Administration.

[FR Doc. E9-3346 Filed 2-13-09; 8:45 am]

BILLING CODE 4510-FR-P